DEPARTMENT OF THE INTERIOR

National Park Service

Draft Environmental Impact Statement for Anacapa Island Restoration Plan Channel Islands National Park, Ventura County, California; Notice of Availability

SUMMARY: Pursuant to § 102(2)(c) of the National Environmental Policy Act of 1969 (Pub. L. 81-190 as amended), the National Park Service, Department of the Interior, has prepared a draft environmental impact statement (DEIS) assessing the potential impacts of eradicating the Black rat on Anacapa Island. This DEIS identifies and analyzes the effects of a proposed action and five alternatives for accomplishing the following objectives: (1) Eradication of the introduced Black rat on Anacapa Island; (2) emergency response for accidental introductions of rodents on Anacapa, Santa Barbara, Prince, and Sutil Islands; and (3) prevention strategies to reduce the potential for rodents to be accidentally introduced to Park islands. The proposed action was developed in concert with the Island Conservation and Ecology Group and is based on other successful island rat eradication efforts worldwide. Actions to manage existing and potential Black rat infestations is necessary because of the ecological impacts that it is having on Anacapa Island, and the potential negative impact they would have if introduced to other Park islands.

Proposal: The actions proposed for eradicating rats on Anacapa Island-identified in the DEIS as Alternative Two-are modeled after other island rate eradication projects that have successfully been completed worldwide. Due to the steep cliffs of the island, an aerial broadcast is necessary to deliver rodenticide to every rat's territory, a condition that has to be met to accomplish eradication. This broadcast effort would use a rodent bait containing brodifacoum. The proposed target date is the late fall period; which is the optimum period to apply the bait for three reasons: (1) the Endangered brown pelicans are not breeding on the island; (2) rats are in decline due to lack of available food sources, which would cause them to eat the bait more readily; and (3) onset of the rainy season would expedite the degradation of any residual bait not consumed by the target species. East islet would be treated in November/December of Year 1, and Middle islet would be treated in November/December in Year 2. Approximately 20ha of Middle Island would be treated in Year 1 and may be treated intermittently throughout Year 2 to prevent rats from re-invading East Island from Middle Island. The population size of the rats on Anacapa fluctuates between about 750-2000 total, depending on local conditions.

Alternatives: After identifying the significant environmental issues associated with the proposed action, the Park began developing alternatives to the proposed action. Modifying the eradication strategies to address the environmental issue concerns was the basis the Park used to develop five alternatives, as follows: Alternative One (no-action) would maintain existing management. Alternative Three would utilize bait stations for the top of islands and aerial broadcast the cliffsides and use the rodent bait containing brodifacoum. Alternative Four would use an aerial broadcast of a rodent bait containing bromadiolone. Alternative Five would use bait stations for the top of islands and aerial broadcast the cliffsides with the rodent bait bromadiolone. Alternative Six would aerial broadcast a rodent bait containing diphacinone followed by a rodent bait containing brodifacoum. Mitigation measures for implementing each alternative are identified, and elements common to all action alternatives include: (1) Implementation of a Non-native Rodent Introduction Prevention Plan; (2) Protection of Native Anacapa Deer Mouse Population; and (3) Implementation of the Rate Detection Response Plan.

Comments and Supplementary Information: The DEIS is now available for public review. Interested persons and organizations wishing to express any concerns or provide relevant information are encouraged to contact the Superintendent, Channel Islands National Park, 1901 Spinnaker Dr. Ventura, California, 93001, or via telephone at (805) 658-5700. The document may be obtained from the park, and is also available at the Ventura local library and on the Park's website (http:www.nps.gov/chis/naturalresources/AIRP.html).

All written comments must be postmarked not later than 60 days from the date of the Environmental Protection Agency's notice of DEIS filing in the Federal Register (anticipated to be approximately September 12, 2000). If individuals submitting comments request that their name or/and address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses; and, anonymous comments may not be considered.

Decision: After the formal DEIS review period has concluded, all comments and suggestions received will be considered in preparing a final EIS. Currently the final EIS is anticipated to be completed during fall, 2000; its availability will be similarly announced in the Federal Register. Subsequently a Record of Decision would be executed no sooner than 30 (thirty) days after release of the final EIS. The official responsible for the final decision is the Regional Director, Pacific West Region; the official responsible for implementation is the Superintendent; Channel Islands National Park.

Dated: June 29, 2000.
Patricia L. Neubacher,
Acting Regional Director, Pacific West Region.

[FR Doc. 00-17429 Filed 7-13-00; 8:45 am]

BILLING CODE 4310-70-M